FEDERAL COMMUNICATIONS COMMISSION

Open Commission Meeting, Thursday, March 23, 2017

March 16, 2017.

The Federal Communications Commission will hold an Open Meeting on the subjects listed below on Thursday, March 23, 2017 which is scheduled to commence at 10:30 a.m. in Room TW-C305, at 445 12th Street SW., Washington, DC.

Item No. | Bureau | Subject
1 | CONSUMER & GOVERNMENTAL AFFAIRS | Title: Advanced Methods to Target and Eliminate Unlawful Robocalls (CG Docket No. 17-59). Summary: The Commission will consider a Notice of Proposed Rulemaking and Notice of Inquiry that would enable voice service providers to better protect subscribers from illegal and fraudulent robocalls.
2 | WIRELESS TELE-COMMUNICATIONS | Title: Promoting Technological Solutions to Combat Contraband Wireless Device Use in Correctional Facilities (GN Docket No. 13-111). Summary: The Commission will consider a Report and Order and Further Notice of Proposed Rulemaking that would adopt rules to facilitate the deployment of technologies used to combat contraband wireless devices in correctional facilities, while seeking comment on additional proposals and solutions.
3 | CONSUMER & GOVERNMENTAL AFFAIRS | Title: Structure and Practices of the Video Relay Services Program (CG Docket No. 10-51); Telecommunications Relay Services and Speech-to-Speech Services for Individuals with Hearing and Speech Disabilities (CG Docket No. 03-123). Summary: The Commission will consider a Report and Order, Notice of Inquiry, Further Notice of Proposed Rulemaking, and Order that would enhance service quality and propose a new provider compensation plan for video relay services.
4 | WIRELESS TELE-COMMUNICATIONS | Title: Amendment of the Commission's Rules with Regard to the Cellular Service, Including Changes in Licensing of Unserved Area (WT Docket No. 12-40; RM No. 11510); Amendment of the Commission's Rules with Regard to Relocation of Interim Restrictions and Procedures for Cellular Service Applications; Amendment of the Commission's Rules with Regard to Frequency Coordination for the Cellular Service; Amendment of the Commission's Rules Governing Radiated Power Limits for the Cellular Service (RM No. 11660). Summary: The Commission will consider a Second Report and Order, Report and Order, and Second Further Notice of Proposed Rulemaking that would facilitate mobile broadband deployment, including LTE, promote greater spectrum efficiency, and reduce regulatory burdens and costs.
5 | INTERNATIONAL | Title: Reporting Requirements for U.S. Providers of International Services (IB Docket No. 17-55); 2016 Biennial Review of Telecommunications Regulations (IB Docket No. 16-131). Summary: The Commission will consider a Notice of Proposed Rulemaking that proposes to (1) eliminate the Traffic and Revenue Reports and (2) streamline the Circuit Capacity Reports.
6 | MEDIA | Title: Expanding the Economic and Innovation Opportunities of Spectrum Through Incentive Auctions (GN Docket No. 12-268); Amendments of the Commission's Rules to Establish Rules for Digital Low Power Television and Television Translator Stations (MB Docket No. 03-185); Channel Sharing by Full Power and Class A Stations Outside the Broadcast Television Spectrum Incentive Auction Context (MB Docket No. 15-137). Summary: The Commission will consider a Report and Order that would authorize channel sharing outside the context of the incentive auction and thus permit stations with auction-related channel sharing agreements to continue to operate if their auction-related agreements expire or otherwise terminate.
7 | PUBLIC SAFETY & HOMELAND SECURITY | Presentation: The Commission will receive an update from the Public Safety & Homeland Security Bureau on the status of its continuing inquiry into the AT&T Mobility 911 outage that occurred on March 8, 2017.

* * * * *

Consent Agenda

The Commission will consider the following subjects listed below as a consent agenda and these items will not be presented individually:

1 | MEDIA | Title: WLPC, LLC, Application For Renewal of License For Class A Television Station WLPC-CD, Detroit, Michigan. Summary: The Commission will consider an Order adopting a Consent Decree which resolves issues regarding potential violations of the Commission's rules and grants the license renewal application of WLPC-CD.
2 | MEDIA | Title: Application of Razorcake/Gorsky Press, Inc. For a New LPFM Station at Pasadena, California. Summary: The Commission will consider a Memorandum Opinion and Order concerning the denial of objections to an application for a construction permit for a new LPFM station.
3 | MEDIA | Title: Immaculate Conception Apostolic School, Applications for a Construction Permit and Covering License for Noncommercial Educational Station DKJPT(FM) at Colfax, California. Summary: The Commission will consider an Order on Reconsideration concerning the dismissal of the licensee's Application for Review seeking reinstatement of the station's license.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2017-06255 Filed 3-30-17; 8:45 am]

BILLING CODE 6712-01-P